DEPARTMENT OF LABOR

Employment and Training Administration

[TA-W-65,703]

Viscotec Automotive Products, LLC, Morganton, NC; Notice of Termination of Investigation

In accordance with Section 221 of the Trade Act of 1974, as amended, an investigation was initiated on March 31, 2009 in response to a worker petition filed on behalf of workers of Viscotec Automotive Products, LLC, Morganton, North Carolina.

The petitioners have requested that the petition be withdrawn. Consequently, the investigation has been terminated.

Signed in Washington, DC, this 29th day of April 2009.
Richard Church,
Certifying Officer, Division of Trade Adjustment Assistance.

[FR Doc. E9-11866 Filed 5-20-09; 8:45 am]

BILLING CODE 4510-FN-P